DEPARTMENT OF HOUSING AND URBAN DEVELOPMENT

[Docket No. FR-5484-N-14]

Notice of Proposed Information Collection: Comment Request; Disposition of Multifamily Housing Projects by HUD; Purchaser's Compliance With State and Local Housing Laws and Requirements

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: June 28, 2011.

ADDRESSES: Interested persons are invited to submit comments regarding this proposal. Comments should refer to the proposal by name and/or OMB Control Number and should be sent to: Reports Liaison Officer, Department of Housing and Urban Development, 451 7th Street SW., Washington, DC 20410, Room 9120 or the number for the Federal Information Relay Service (1-800-877-8339).

FOR FURTHER INFORMATION CONTACT: Jeremy Bates, Housing Program Manager, Office of Asset Management, Multifamily Housing, Department of Housing and Urban Development, 451 7th Street SW., Washington, DC 20410, telephone (202) 708-2121 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: OMB information Collection on Form HUD-9840, Disposition of Multifamily Housing Projects by HUD; Purchaser's Compliance With State and Local Housing Laws and Requirements.

OMB Control Number, if applicable: 2502-0559.

Description of the need for the information and proposed use: Information collection 2502-0559 is necessary for HUD to monitor potential purchasers' current compliance with state or local government housing statutes, regulations, ordinances, and codes. This information collection requires potential purchasers of HUD-owned multifamily housing projects to certify that all of their projects owned and located in the same city or town as the project to be purchased are in compliance with state and local housing codes. (This information is being collected in accordance with Section 219 of the Consolidated Appropriations Act of 2004[1] and the revised regulations at 24 CFR part 200, subpart H.[2] In addition, HUD issued a proposed rule (24 CFR parts 200 and 290, disposition of Multifamily Housing Projects by HUD; Purchaser's Compliance With State and Local Housing Laws and Requirements), which was announced in the Federal Register on August 5, 2005, Volume 70, No. 150, page 45492.

Agency form numbers, if applicable: Form HUD-9840.

Estimation of the total numbers of hours needed to prepare the information collection including number of respondents, frequency of response, and hours of response: The number of burden hours is 12.5. The number of respondents has previously been 25, the number of responses is 25, the frequency of response is on occasion, and the burden hour per response is 0.5.

Status of the proposed information collection: This is not a new collection.

Authority: The Paperwork Reduction Act of 1995, 44 U.S.C., Chapter 35, as amended.

Dated: April 26, 2011.
Ronald Y. Spraker,
Associate General Deputy Assistant Secretary for Housing.

[FR Doc. 2011-10454 Filed 4-28-11; 8:45 am]

BILLING CODE 4210-67-P